SMALL BUSINESS ADMINISTRATION

Revocation of License of Small Business Investment Company

Pursuant to the authority granted to the United States Small Business Administration by the Wind-Up Order of the United States District Court of the Western District of Kentucky, Louisville Division, dated July 11, 2011, the United States Small Business Administration hereby revokes the license of Prosperitas Investment Partners, L.P. a Kentucky limited partnership, to function as a small business investment company under the Small Business Investment Company License No. 04/74-0283 issued to Prosperitas Investment Partner, L.P., on June 29, 2000 and said license is hereby declared null and void as of July 11, 2011.

United States Small Business Administration.
Sean J. Greene,
Associate Administrator for Investment.

[FR Doc. 2012-4925 Filed 2-29-12; 8:45 am]

BILLING CODE 8025-01-P